DEPARTMENT OF ENERGY

Federal Energy Regulatory Commission

[Docket Nos. EL00-9-001 and ER99-2331-002]

Cherokee County Cogeneration Partners, L.P., v. Duke Energy Corporation and Duke Energy Corporation; Notice of Filing

July 10, 2000.

Take notice that on June 30, 2000, Duke Energy Corporation (Duke), tendered for filing a Stipulation and Settlement Agreement (Settlement) between Duke and Cherokee County Cogeneration Partners, L.P. (Cherokee), an Explanatory Statement and a revised Operating Agreement. Duke states that the Settlement is the Commission-jurisdictional portion of a comprehensive resolution of disputes and litigation between Duke and Cherokee.

Duke states that copies of its filing have been mailed to each person designated on the official service list in this proceeding.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 20, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-17815 Filed 7-13-00; 8:45 am]

BILLING CODE 6717-01-M